SMALL BUSINESS ADMINISTRATION

[Declaration of Disaster #3478]

State of Mississippi

Newton County and the contiguous counties of Clarke, Jasper, Kemper, Lauderdale, Leake, Neshoba, Scott, and Smith in the State of Mississippi constitute a disaster area due to damages caused by severe thunderstorms and tornadoes that occurred on December 19, 2002. Applications for loans for physical damage may be filed until the close of business on February 24, 2003 and for economic injury until the close of business on September 24, 2003 at the address listed below or other locally announced locations: U.S. Small Business Administration, Disaster Area 2 Office, One Baltimore Place, Suite 300, Atlanta, GA 30308.

The Interest Rates are:

| Percent
For Physical Damage:
Homeowners with Credit Available Elsewhere | 5.87
Homeowners Without Credit Available Elsewhere | 2.937
Businesses With Credit Available Elsewhere | 6.648
Businesses and Non-Profit Organizations Without Credit Available Elsewhere | 3.324
Others (Including Non-Profit Organizations) With Credit Available Elsewhere | 5.500
For Economic Injury: Businesses and a Small Agricultural Cooperatives Without Credit Available Elsewhere | 3.324

The number assigned to this disaster for physical damage is 347812 and for economic injury, the number is 9T7200.

(Catalog of Federal Domestic Assistance Program Nos. 59002 and 59008)
Dated: December 24, 2002.
Hector V. Barreto,
Administrator.

[FR Doc. 03-305 Filed 1-7-03; 8:45 am]

BILLING CODE 8025-01-P